DEPARTMENT OF VETERANS AFFAIRS

Advisory Committee on Women Veterans, Notice of Meeting

The Department of Veterans Affairs (VA) gives notice under the Federal Advisory Committee Act that the Advisory Committee on Women Veterans will meet on August 7-9, 2019, at the VA Central Office.

Date | Location
August 7, 2019 | 810 Vermont Avenue NW, Room C-7, Washington, DC.
August 8, 2019 | 810 Vermont Avenue NW, Room C-7, Washington, DC.
August 9, 2019 | 810 Vermont Avenue NW, G.V. Sonny Montgomery Conference Room 230, Washington, DC.

The meetings will begin at 8:30 a.m. and end 12:00 p.m. each day. The meeting sessions are open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates from the Veterans Health Administration, the Veterans Benefits Administration, and Staff Offices, as well as briefings on other issues impacting women Veterans.

No time will be allocated at this meeting for receiving oral presentations from the public. Interested parties should provide written comments for review by the Committee to Ms. Shannon L. Middleton, VA Center for Women Veterans (00W), 810 Vermont Avenue NW, Washington, DC 20420, or email at 00W@mail.va.gov, or fax to (202) 273-7092. Any member of the public who wishes to attend the meeting or wants additional information should contact Ms. Middleton at (202) 461-6193.

Dated: July 18, 2019.
Jelessa M. Burney,
Federal Advisory Committee Management Officer.

[FR Doc. 2019-15638 Filed 7-22-19; 8:45 am]

BILLING CODE 8320-01-P